FEDERAL MARITIME COMMISSION

Security for the Protection of the Public Indemnification of Passengers for Nonperformance of Transportation; Notice of Issuance of Certificate (Performance)

Notice is hereby given that the following have been issued a Certificate of Financial Responsibility for Indemnification of Passengers for Nonperformance of Transportation pursuant to the provisions of Section 3, Public Law 89-777 (46 U.S.C. 817 (e)) and the Federal Maritime Commission's implementing regulations at 46 CFR part 540, as amended:

The Delta Queen Steamboat Co., and Great River Cruise Line, L.L.C., 1380 Port of New Orleans Place, New Orleans, LA 70130, Vessel: DELTA QUEEN

The Delta Queen Steamboat Co., and Great Ocean Cruise Line, L.L.C., 1380 Port of New Orleans Place, New Orleans, LA 70130, Vessel: MISSISSIPPI QUEEN

Holland America Line-Westours Inc. (d/b/a Holland America Line), HAL Cruises Limited, Holland America Line N.V., and HAL Antillen N.V., 300 Elliott Avenue West, Seattle, WA 98119, Vessels: OOSTERDAM, PRINSENDAM and ZUIDERDAM

Holland America Line-Westours Inc. (d/b/a Windstar Cruises), Wind Spirit Limited, and HAL Antillen N.V., 300 Elliott Avenue West, Seattle, WA 98119, Vessel: WIND SURF

Luxumbourg Shipping Services S.A. (d/b/a Star Clippers), 4101 Salzedo Street, Coral Gables, FL 33146, Vessel: STAR CLIPPER

Norwegian Cruise Line Limited (d/b/a Norwegian Cruise Line), 7665 Corporate Center Drive, Miami, FL 33126, Vessel: NORWEGIAN DAWN

Sea Cloud Cruises GmbH, Schiffahrts-Gesellschaft Hansa Columbus mbH & Co., KG, and Hapag-Lloyd Kreuzfahrten GmbH Ballindamm 17, 20095 Hamburg, Germany, Vessel: SEA CLOUD II

Dated: March 8, 2002.
Bryant L. VanBrakle,
Secretary.

[FR Doc. 02-6082 Filed 3-12-02; 8:45 am]

BILLING CODE 6730-01-P